DEPARTMENT OF ENERGY

Federal Energy Regulatory Commission

[Docket No. EL12-9-000]

TC Ravenswood, LLC v. New York Independent System Operator, Inc., New York State Reliability Council, LLC; Notice of Complaint

Take notice that on November 8, 2011, pursuant to sections 206 and 306 of the Federal Power Act, and Rule 206 of the Federal Energy Regulatory Commission's (Commission) Rules of Practice and Procedures, 18 CFR 385.206, TC Ravenswood, LLC (Complainant) filed a complaint against the New York Independent System Operator, Inc. (NYISO) and the New York State Reliability Council, L.L.C. (NYSRC), alleging that NYISO and NYSRC violated NYISO's Market Administration and Control Area Services Tariff and a Commission order issued on September 27, 2011 ¹ by indicating that both entities continue to treat Complainant's Units 10, 20, and 30 as Black Start Facilities based on a declaratory ruling issued by the New York Public Service Commission.

¹ TC Ravenswood, LLC, 136 FERC ¶ 61,213 (2011).

The Complainant certifies that copies of the complaint were served on representatives of the NYISO, the NYSRC, and the New York Public Service Commission.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the web site that enables subscribers to receive email notification when a document is added to a subscribed docket(s). For assistance with any FERC Online service, please email FERCOnlineSupport@ferc.gov, or call (866) 208-3676 (toll free). For TTY, call (202) 502-8659.

Comment Date: 5 p.m. Eastern Time on November 29, 2011.

Dated: November 15, 2011.
Kimberly D. Bose,
Secretary.

[FR Doc. 2011-30025 Filed 11-18-11; 8:45 am]

BILLING CODE 6717-01-P